DEPARTMENT OF THE INTERIOR

Office of Surface Mining Reclamation and Enforcement

Notice of Proposed Information Collection for 1029-0055 and 1029-0091

AGENCY: Office of Surface Mining Reclamation and Enforcement.

ACTION: Notice and request for comments.

SUMMARY: In compliance with the Paperwork Reduction Act of 1995, the Office of Surface Mining Reclamation and Enforcement (OSM) is announcing that the information collection requests for the titles described below have been forwarded to the Office of Management and Budget (OMB) for review and comment. The information collection requests describe the nature of the information collections and the expected burden and cost for 30 CFR parts 750 and 877.

DATES: OMB has up to 60 days to approve or disapprove the information collections but may respond after 30 days. Therefore, public comments should be submitted to OMB by May 16, 2005, in order to be assured of consideration.

FOR FURTHER INFORMATION CONTACT: To request a copy of either information collection request, explanatory information and related form, contact John A. Trelease at (202) 208-2783, or electronically to jtreleas@osmre.gov.

ADDRESSES: Submit comments to the Office of Information and Regulatory Affairs, Office of Management and Budget, Attention: Department of Interior Desk Officer, by telefax at (202) 395-6566 or via e-mail to OIRA_Docket@omb.eop.gov. Also, please send a copy of your comments to John A. Trelease, Office of Surface Mining Reclamation and Enforcement, 1951 Constitution Ave., NW., Room 202—SIB, Washington, DC 202240, or electronically to jtreleas@osmre.gov.

SUPPLEMENTARY INFORMATION: OMB regulations at 5 CFR 1320, which implement provisions of the Paperwork Reduction Act of 1995 (Pub. L. 104-13), require that interested members of the public and affected agencies have an opportunity to comment on information collection and recordkeeping activities [see 5 CFR 1320.8(d)]. OSM has submitted two requests to OMB to renew its approval of the collections of information contained in: 30 CFR part 750, Requirements for surface coal mining and reclamation operations on Indian Lands; and 30 CFR part 877, Rights of entry. OSM is requesting a 3-year term of approval for each information collection activity.

An agency may not conduct or sponsor, and a person is not required to respond to, a collection of information unless it displays a currently valid OMB control number. The OMB control numbers for these collections of information are 1029-0091 for Part 750, and 1029-055 for Part 877.

As required under 5 CFR 1320.8(d), a Federal Register notice soliciting comments for these collections of information was published on December 21, 2004 (69 FR 76477). No comments were received. This notice provides the public with an additional 30 days in which to comment on the following information collection activities:

Title: Requirements for surface coal mining and reclamation operations on Indian Lands—30 CFR part 750.

OMB Control Number: 1029-0091.

Summary: Operators who conduct or propose to conduct surface coal mining and reclamation operations on Indian lands must comply with the requirements of 30 CFR 750 pursuant to Section 710 of SMCRA.

Bureau Form Number: None.

Frequency of Collection: One new permit every other year. 75 permit revisions annually.

Description of Respondents: Applicants for coal mining permits.

Total Annual Responses: One new permit and 75 revisions annually.

Total Annual Burden Hours: 500 hours for new permits annually. 900 hours for permit revisions annually.

Total Annual Non-wage Costs: $15,000 for filings fees annually for new permits.

Title: Rights of Entry—30 CFR Part 877.

OMB Control Number: 1029-0055.

Summary: This regulation establishes procedures for non-consensual entry upon private lands for the purpose of abandoned mine land reclamation activities or exploratory studies when the landowner refuses consent or is not available.

Bureau Form Number: None.

Frequency of Collection: Once.

Description of Respondents: State abandoned mine land reclamation agencies.

Total Annual Responses: 103.

Total Annual Burden Hours: 103.

Total Annual Non-wage Costs: $4,120 for publication costs.

Send comments on the need for the collections of information for the performance of the functions of the agency; the accuracy of the agency's burden estimates; ways to enhance the quality, utility and clarity of the information collections; and ways to minimize the information collection burdens on respondents, such as use of automated means of collections of the information, to the following addresses. Please refer to the appropriate OMB control numbers in all correspondence.

Dated: April 8, 2005.
John R. Craynon,
Chief, Division of Regulatory Support.

[FR Doc. 05-7499 Filed 4-13-05; 8:45 am]

BILLING CODE 4310-05-M